DEPARTMENT OF THE INTERIOR

Bureau of Land Management

[UT-070-1210-00]

Notice of Emergency Off-Road Vehicle Closures in Wilderness Study Areas Located in the San Rafael Swell Region

AGENCY: Bureau of Land Management, Interior.

ACTION: Notice of a temporary emergency closure pursuant to regulations at 43 CFR 8341.2(a) to off-road vehicles (ORVs), also commonly referred to as off-highway vehicles (OHVs), on public lands and existing vehicle ways within the boundaries of seven Wilderness Study Areas (WSAs).

SUMMARY: This notice closes public lands within the Muddy Creek, Sid's Mountain/Sid's Cabin, Devil's Canyon, Crack Canyon, San Rafael Reef, Horseshoe Canyon and Mexican Mountain WSAs, located in the San Rafael Swell region of central Utah, to motorized vehicles. An emergency closure order is necessary due to ORV-caused damage to soils, vegetation and other resources which is impairing wilderness values over extensive portions of the affected WSAs. The closure effects motorized vehicle use on all public lands in WSAs in the Price Field Office with the exception of “four” routes in Sid's Mountain WSA described as follows: (1) The wash bottom of Coal Wash, including the short dugway from the west which enters this wash, and North Fork Coal Wash south until it exits the WSA over “Fix-It-Pass”, (2) the wash bottom of South Fork Coal Wash from its junction with the North Fork to and including the “Eva Conover” way, (3) the “Devil's Racetrack” way, and (4) the Justensen Flat access way, including lower Eagle Canyon southeast from the junction of this way. These routes will remain open on a conditional basis. This closure applies to all motor vehicle use with the exception of law enforcement and emergency personnel or administrative uses authorized by the BLM.

DATES: This emergency closure order is effective immediately and will remain in effect until adverse effects are eliminated and measures are implemented to prevent reoccurrence, as identified in 43 CFR 8341.2 (a). Should the rehabilitation work and non-impairment plan associated with Coal Wash, South Fork and North Fork of Coal Wash, the Eva Conover and Devil's Racetrack routes, the Justensen Flat access way and adjacent lands not result in abatement of adverse effects, the ways will be closed to motorized vehicle use. Authorities for the closure order are 43 CFR 8341.2(a).

FOR FURTHER INFORMATION CONTACT: Dick Manus, Price Field Office Manager, 125 South, 600 West, Price, Utah 84501. Telephone (435) 636-3600.

SUPPLEMENTARY INFORMATION: The establishment of WSAs in the San Rafael Swell region in 1980 placed lands under protective management as specified by the Interim Management Policy (IMP) for lands under wilderness review. Under the IMP, motor vehicle use could continue on existing vehicle ways as long as that use does not impair wilderness values. The 1991 San Rafael Resource Management Plan (RMP) further addressed ORV use in the region by allocating all lands in the affected WSAs in either the “limited use” restricted to designated routes, or the “closed” to ORV use categories. Following the RMP, the BLM Price Office initiated a planning effort to designate the routes in the San Rafael planning unit, including lands in the affected WSAs within the limited use ORV category. This planning effort included extensive coordination with local governments and interest groups, as well as the formation of a citizen's team to advise on ORV route designations. Despite these efforts, route designation has remained a contentious issue and a travel plan for the San Rafael Swell, including the affected WSAs, has not been completed. Throughout this period, ORV use in the San Rafael Swell has increased tremendously. The proliferation of vehicle ways beyond the ways inventoried at the time of WSA designation has become a serious problem. Damage to soils, vegetation and other resources is occurring in many areas degrading naturalness and other wilderness qualities. The impairment of wilderness values necessitates this emergency closure order in the seven WSAs located in the San Rafael Swell region. The closure effects motorized vehicle use on all public lands in WSAs in the Price Field Office with the exception of “four” routes in Sid's Mountain WSA described as follows: (1) The wash bottom of Coal Wash, including the short dugway from the west which enters this wash, and North Fork Coal Wash south until it exits the WSA over “Fix-It-Pass”, (2) the wash bottom of South Fork Coal Wash from its junction with the North Fork to and including the “Eva Conover” way, (3) the “Devil's Racetrack” way, and (4) the Justensen Flat access way, including lower Eagle Canyon southeast from the junction of this way. These routes will remain open on a conditional basis. Motorized use of these routes will be allowed to continue contingent upon the success of a rehabilitation and monitoring plan designed to restore areas to non-impairment conditions and prevent further travel off of these pre-described routes. Should the plan not restore the area, these areas will also be closed until adverse effects can be eliminated. The net effect of this action combined with previous land use decisions, is that all WSA's administered by the Price Field Office are closed to ORV use except for the routes specified as conditionally open in this notice.

Nothing in this order alters in any way legal rights which Emery County or the State of Utah may claim to assert R.S. 2477 highways, and to challenge in Federal court or other appropriate venue, any BLM road closures that they believe are inconsistent with their claims.

Sally Wisely,
State Director.

[FR Doc. 00-6796 Filed 3-20-00; 8:45 am]

BILLING CODE 4310-DQ-P